DEPARTMENT OF JUSTICE

Antitrust Division

Notice Pursuant to the National Cooperative Research and Production Act of 1993—MLCOMMONS Association

Notice is hereby given that, on May 25, 2023, pursuant to section 6(a) of the National Cooperative Research and Production Act of 1993, 15 U.S.C. 4301 et seq. (“the Act”), MLCommons Association (“MLCommons”) filed written notifications simultaneously with the Attorney General and the Federal Trade Commission disclosing changes in its membership. The notifications were filed for the purpose of extending the Act's provisions limiting the recovery of antitrust plaintiffs to actual damages under specified circumstances. Specifically, SiWave Semiconductor Corporation, Vancouver, CANADA; Michael John Choudhury (individual member), Aspley, AUSTRALIA; Rio Yokota (individual member), Meguro-ku, JAPAN; Pinar Muyan-Ozcelik (individual member), Sacramento, CA; RamTank, Inc., San Francisco, CA; CoreWeave, Inc., Roseland, NJ; Nathan Khazam (individual member), Los Altos, CA; and Chip-hop Ltd., Huangpu District, PEOPLE'S REPUBLIC OF CHINA have been added as parties to this venture.

Also, Institute of Automation, Chinese Academy of Sciences, Haidan District, PEOPLE'S REPUBLIC OF CHINA; Formativ, Paris, FRANCE; Serenade Labs Inc., San Francisco, CA; OctoML, Inc., Seattle, WA; and Crosstalk LLC, Kansas City, MO have withdrawn as parties to this venture.

No other changes have been made in either the membership or planned activity of the group research project. Membership in this group research project remains open, and MLCommons intends to file additional written notifications disclosing all changes in membership.

On September 15, 2020, MLCommons filed its original notification pursuant to section 6(a) of the Act. The Department of Justice published a notice in the Federal Register pursuant to section 6(b) of the Act on September 29, 2020 (85 FR 61032).

The last notification was filed with the Department on March 15, 2023. A notice was published in the Federal Register pursuant to section 6(b) of the Act on May 12, 2023 (88 FR 30783).

Suzanne Morris,
Deputy Director Civil Enforcement Operations Antitrust Division.

[FR Doc. 2023-12962 Filed 6-15-23; 8:45 am]

BILLING CODE P